DEPARTMENT OF COMMERCE

National Oceanic and Atmospheric Administration

[I.D. 061801A]

Permits; Foreign Fishing

AGENCY: National Marine Fisheries Service (NMFS), National Oceanic and Atmospheric Administration (NOAA), Commerce.

ACTION: Notice of periodic need for break-bulk refrigerated cargo vessels.

SUMMARY: NMFS publishes for public review and comment information provided by U.S. joint venture (JV) partners regarding their need for break-bulk refrigerated cargo vessels to support approved foreign fishing operations in the U.S. Exclusive Economic Zone (EEZ) in 2001.

ADDRESSES: Comments may be submitted to NMFS, Office of Sustainable Fisheries, International Fisheries Division, 1315 East-West Highway, Silver Spring, MD 20910.

FOR FURTHER INFORMATION CONTACT: Robert A. Dickinson, Office of Sustainable Fisheries, (301) 713-2276.

SUPPLEMENTARY INFORMATION: Under the Magnuson-Stevens Fishery Conservation and Management Act (16 U.S.C. 1801 et seq.) (Magnuson-Stevens Act), any person may submit an application requesting a permit authorizing a vessel other than a vessel of the United States to engage in fishing consisting solely of transporting fish or fish products at sea from a point within the EEZ or, with the concurrence of a State, within the boundaries of that State, to a point outside the United States.

This notice concerns the fact that U.S. JV partners report they will need to have a number of break-bulk refrigerated cargo vessels permitted in 2001 under section 204(d) of the Magnuson-Stevens Act to support approved foreign fishing operations in the EEZ. The JV partners report that arrangements for such support vessels must generally be made on short notice immediately prior to the need for transport services. The U.S. JV partners also report they are not aware of the availability of any U.S.-flag break-bulk refrigerated cargo vessels and that it will therefore be necessary for them to employ foreign break-bulk refrigerated cargo vessels to support their operations.

In the interest of expediting the issuance of required permits and in accordance with Section 204 (d)(3) of the Magnuson-Stevens Act, the U.S. JV partners have requested and received from the New England Fishery Management Council and the Mid-Atlantic Fishery Management Council, a general recommendation that any break-bulk refrigerated cargo vessels required to support approved foreign fishing operations in the EEZ be permitted under Section 204 (d) of the Magnuson-Stevens Act.

In accordance with Section 204 (d)(3)(D) of the Magnuson-Stevens Act, NMFS is notifying interested parties of the periodic need of the U.S. JV partners for break-bulk refrigerated cargo vessels to transship processed fishery products at-sea and transport the products to points outside the United States. Further information about the requirements of the U.S. JV partners is available from NMFS (see ADDRESSES). Owners or operators of vessels of the United States who purport to have vessels with adequate capacity to perform the required transportation at fair and reasonable rates should indicate their interest in doing so to NMFS (see ADDRESSES).

In consideration of the Councils’ recommendation, the apparent lack of available U.S.-flag break-bulk refrigerated cargo vessels (as reported by the U.S. JV partners), and the requirement to process and issue on short notice permits requested in accordance with Section 204 (d) of the Magnuson-Stevens Act, until an owner or operator of a vessel of the United States having adequate capacity to perform the required transportation at fair and reasonable rates is identified, the NMFS intends to approve as expeditiously as possible all complete applications for 204 (d) transshipment permits in support of approved foreign fishing operations in the EEZ, provided all criteria in Section 204 (d) are satisfied.

Dated: July 18, 2001.
Bruce C. Morehead,
Acting Director, Office of Sustainable Fisheries, National Marine Fisheries Service.

[FR Doc. 01-18415 Filed 7-23-01; 8:45 am]

BILLING CODE 3510-22-S